DEPARTMENT OF DEFENSE

Office of the Secretary

[Docket No. DoD-2009-DARS-0026]

Submission for OMB Review; Comment Request

ACTION: Notice.

The Department of Defense has submitted to OMB for clearance, the following proposal for collection of information under the provisions of the Paperwork Reduction Act (44 U.S.C. Chapter 35).

DATES: Consideration will be given to all comments received by March 27, 2009.

Title and OMB Number: Information Collection in Support of the DoD Acquisition Process (Miscellaneous Requirements) (Defense Federal Acquisition Regulation Supplement (DFARS) Parts 208, 209, 226, and 235 and associated clauses in Part 252); OMB Control Number 0704-0187.

Type of Request: Extension.

Number of Respondents: 698.

Responses per Respondent: 1.81.

Annual Responses: 1,260.

Average Burden per Response: 1.46 hours.

Annual Burden Hours: 1,845.

Needs and Uses: This information collection requirement pertains to information required by DFARS Parts 208, 209, 226, and 235 and associated clauses in Part 252, that an offeror must submit to DoD with regard to a solicitation or contract requirement.

DoD uses this information to:

• Determine whether to provide precious metals as Government furnished material.

• Determine an entity's eligibility for award of a contract under a national security program.

• Determine whether there is a compelling reason for a contractor to enter into a subcontract with a firm, or subsidiary of a firm, that is identified in the List of Parties Excluded from Federal Procurement and Non-procurement Programs as being ineligible for award of Defense contracts or subcontracts because it is owned or controlled by the government of a terrorist country.

• Verify the status of an offeror as a historically black college or university (HBCU) or minority institution (MI) in order to determine whether the offeror is eligible for award under a HBCU/MI set-aside.

• Evaluate claims of indemnification for loss or damage occurring under a research and development contract.

• Keep track of radio frequencies for electronic equipment under research and development contracts, so that the user does not interfere with other use of the same frequency.

Affected Public: Business or other for-profit; not-for-profit institutions.

Frequency: On Occasion.

Respondent's Obligation: Required to obtain or retain benefits.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 1777 North Kent Street, RPN, Suite 11000, Arlington, VA 22209-2133.

Dated: February 19, 2009.
Patricia L. Toppings,
OSD Federal Register Liaison Officer, Department of Defense.

[FR Doc. E9-4040 Filed 2-24-09; 8:45 am]

BILLING CODE 5001-06-P